DEPARTMENT OF ENERGY

Federal Energy Regulatory Commission

[Docket No. PL01-1-000]

Hydroelectric Licensing Policies, Procedures, and Regulations—Comprehensive Review; Notice of Public Meetings and Requesting Comments and Recommendations

November 28, 2000.

Pursuant to Section 603 of the Energy Act of 2000 (Public Law No. 106-469), the Commission is preparing a comprehensive review of policies, procedures, and regulations for the licensing of hydroelectric projects to determine how to reduce the cost and time of obtaining a license. Section 603 directs the Commission to report its findings to Congress, including any recommendations for legislative changes, by May 8, 2001.

To ensure a comprehensive review, the Commission seeks the comments and recommendations of all stakeholders in the Commission's hydroelectric licensing program, including federal and state agencies, Indian tribes, non-governmental organizations, licensees, and other members of the public. In particular, the Commission wishes to receive comments identifying steps in the existing licensing process that may require inordinate time and expense to complete, and the reasons therefor.

The Commission will meet with other federal agencies in Washington, DC, and will send letters to state water quality officials requesting their views.

The Commission will also hold public meetings to receive comments and recommendations in Washington, DC, and in several locations throughout the country. Notice of the location, date, and times of these meetings will be provided in future notices as arrangements are made. Each public meeting will include a review of the existing licensing process and an opportunity for participants to offer their comments on how it can be improved. The public meetings will be recorded by a stenographer and, thereby, will become a part of the record of the proceeding. Persons making statements will be asked to identify themselves for the record. The speaking time permitted to individuals will be determined at the beginning of each meeting, based on the number of persons wishing to speak and the approximate amount of time available for the session, but all speakers will be provided at least ten minutes to present their views.

Persons choosing not to speak but wishing to comment, as well as speakers unable to summarize their positions within the allotted time, may submit written statements for inclusion in the public record.

Written comments may also be mailed to David P. Boergers, Secretary, Federal Energy Regulatory Commission, 888 First Street, NE, Washington, DC 20426. Correspondence should clearly show the following caption on the first page:

[Docket No. PL01-1-000]

Hydroelectric Licensing Policies, Procedures, and Regulations—Comprehensive Review

In light of the limited amount of time available for submission on the Commission's Report to Congress, commenters are encouraged to provide written comments as early as possible, but not later than February 1, 2001, and to use their time at the public meetings to summarize previously filed written comments or to focus on only the most significant sources of cost and delay in the licensing process from their perspective. Comments may also be filed electronically via the Internet. See 18 CFR 385.2001(a)(1)(iii) and the instructions on the Commission's web site at http://www.ferc.fed.us/efi/doorbell.htm.

For further information, please contact Edward Abrams at the Commission, 202-219-2773.

David P. Boergers,
Secretary.

[FR Doc. 00-30729 Filed 12-1-00; 8:45 am]

BILLING CODE 6717-01-M